DEPARTMENT OF TRANSPORTATION

Federal Railroad Administration

[Docket No. FRA-2015-0007-N-4]

Agency Request for Emergency Processing of Collection of Information by the Office of Management and Budget

AGENCY: Federal Railroad Administration (FRA), United States Department of Transportation (USDOT).

ACTION: Notice.

SUMMARY: FRA hereby gives notice that it is submitting the following Information Collection request (ICR) to the Office of Management and Budget (OMB) for Emergency processing under the Paperwork Reduction Act of 1995 and its implementing regulations. FRA requests that OMB immediately authorize the collection of information identified below on March 18, 2015, for a period of 180 days.

FOR FURTHER INFORMATION CONTACT: A copy of this individual ICR, with applicable supporting documentation, may be obtained by calling FRA's Clearance Officers: Robert Brogan (tel. (202) 493-6292) or Kimberly Toone (tel. (202) 493-6132); these numbers are not toll-free), or by contacting Mr. Brogan via facsimile at (202) 493-6216 or Ms. Toone via facsimile at (202) 493-6497, or via email by contacting Mr. Brogan at Robert.Brogan@dot.gov; or by contacting Ms. Toone at Kim.Toone@dot.gov. Comments regarding these information collection requirements should be sent directly to the Office of Information and Regulatory Affairs, Office of Management and Budget, 725 Seventeenth Street NW., Washington, DC, 20503, Attention: FRA Desk Officer. Comments may also be sent via email to OMB at the following address: oira_submissions@omb.eop.gov.

Title: Railworthiness Directive Under 49 CFR 180.509 for Railroad Tank Cars Equipped With Certain McKenzie Valve & Machining LLC Valves.

Reporting Burden:

Emergency order item No. | Respondent universe | Total annual responses | Average time per response | Total annual burden hours
I. Identification of RR tank cars equipped with McKenzie valves & document providing reporting mark and number of each car so equipped and type of valve to FRA | 100 Tank Car Owners (15,000 affected tank cars) | 200 identifications/reports | 2 hours | 400 hours.
—Record of Inspection Date and Location and Results of Inspection | 100 Tank Car Owners (15,000 affected tank cars) | 200 records | 30 minutes | 100 hours.

Form Number(s): N/A.

Respondent Universe: 100 Tank Car Owners.

Frequency of Submission: One-time; on occasion.

Total Responses: 400.

Estimated Total Annual Burden: 500 hours.

Status: Emergency Review.

Description: Recent FRA investigations identified several railroad tank cars transporting hazardous materials and leaking small quantities of product from the cars' liquid lines. FRA's investigation revealed that the liquid lines of the leaking tank cars were equipped with a certain type of 3 inch ball valve marketed and sold by McKenzie Valve & Machining LLC (McKenzie) (formerly McKenzie Valve & Machining Company), an affiliate company of Union Tank Car Company (UTLX). FRA further found certain closure plugs installed on the 3 inch valves cause mechanical damage to the valves, which leads to the destruction of the valves' seal integrity and that the 3 inch valves, as well as similarly-designed 1 inch and 2 inch valves provided by this manufacturer are not approved for use on tank cars. FRA is issuing this Railworthiness Directive (Directive) to all owners of tank cars used to transport hazardous materials within the United States to ensure they identify and appropriately remove and replace these valves with approved valves consistent with Federal regulations.

As provided under 5 CFR 1320.13, Emergency Processing, DOT is requesting emergency processing for this new collection of information as specified in the Paperwork Reduction Act of 1995 and its implementing regulations. DOT cannot reasonably comply with normal clearance procedures because the use of normal clearance procedures is reasonably likely to disrupt the collection of information. Further, in light of recent tank car accidents/incidents carrying crude oil, FRA believes safety is an overriding issue. The Directive takes effect immediately upon issuance. FRA cannot wait the normal 90- to 180-day period for routine Office of Management and Budget (OMB) review and approval. Under the Directive, tank car owners must take immediate action to identify, inspect, and repair the valves. Therefore, FRA is requesting OMB approval of this collection of information upon publication of this Notice in the Federal Register.

Upon OMB approval of its emergency clearance request, FRA will follow the normal clearance procedures for the information collection associated with this Railworthiness Directive.

Pursuant to 44 U.S.C. 3507(a) and 5 CFR 320.5(b), 1320.8(b)(3)(vi), FRA informs all interested parties that it may not conduct or sponsor, and a respondent is not required to respond to, a collection of information unless it displays a currently valid OMB control number.

Authority: 44 U.S.C. 3501-3520.

Rebecca Pennington,
Chief Financial Officer.

[FR Doc. 2015-06214 Filed 3-17-15; 8:45 am]

BILLING CODE 4910-06-P